DEPARTMENT OF VETERANS AFFAIRS

Advisory Committee on the Readjustment of Veterans; Notice of Meeting

The Department of Veterans Affairs (VA) gives notice under the Federal Advisory Committee Act, 5 U.S.C. App. 2 that a meeting of the Advisory Committee on the Readjustment of Veterans will be held Thursday and Friday, November 5-6, 2015. The meeting on both days will be conducted at the Readjustment Counseling Service (RCS) Headquarters Offices, located at 1717 H Street NW., Washington, DC 20006, in Conference Room 430C. The agenda for these two days will begin at 8:00 a.m. and end at 4:30 p.m. The meeting on both days is open to the public.

The purpose of the Committee is to review the post-war readjustment needs of combat Veterans and to evaluate the availability, effectiveness and coordination of VA programs required to meet Veterans' readjustment service needs.

On November 5, the Committee will conduct a round table discussion with a panel of VSO national leaders. The focus of the discussion will be to explore common areas of interest and potential partnership regarding the full scope of Veterans' post-war readjustment.

The November 5 agenda will also include briefings on the current activities of the Readjustment Counseling Service (RCS) Vet Center program to include the full scope of outreach and readjustment counseling services provided to combat Veterans, Service members and families. The briefing will focus on the coordination of Vet Center services with VHA health care, mental health, and social work services. The Committee will also receive a briefing from VHA Care Management and Social Work Services program officials focusing on the key role of social work services for the psychological, social, and economic readjustment of combat Veterans. Program officials from VHA's Office of Academic Affiliations will meet with the Committee to discuss avenues for increasing the use of the Vet Centers as student rotation sites of value for the educational readjustment of combat Veterans.

On November 6, Committee members will conduct a roundtable discussion with staff members from the Senate and House Committees on Veterans Affairs. The Committee's purpose is to engage the staffers in discussion to explore the full scope of combat Veterans' readjustment and to ensure the Committee's deliberations are synchronized with the priorities of Congress. The Committee will also receive briefings from VHA mental health program officials focusing on the key role of mental health services for the psychological, social, and economic readjustment of combat Veterans.

The agenda for November 6 will conclude with a Committee strategic planning session for developing the observations and conclusions for inclusion in the Committee's 2016 report.

No time will be allocated at this meeting for receiving oral presentations from the public. However, members of the public may direct written questions or submit prepared statements for review by the Committee before the meeting to Mr. Charles M. Flora, M.S.W., Designated Federal Officer, Readjustment Counseling Service, Department of Veterans Affairs, 810 Vermont Avenue NW., Washington, DC 20420. Because the meeting will be in a Government building, please provide valid photo identification for check-in. Please allow 15 minutes before the meeting for the check-in process. If you plan to attend or have questions concerning the meeting, please contact Mr. Flora at (202) 461-6525 or by email at charles.flora@va.gov.

Dated: October 21, 2015.
Rebecca Schiller,
Advisory Committee Management Officer.

[FR Doc. 2015-27206 Filed 10-26-15; 8:45 am]

BILLING CODE 8320-01-P